Title 3—

The President

Proclamation 7450 of June 11, 2001

Great Outdoors Week, 2001

By the President of the United States of America

A Proclamation

During Great Outdoors Week, our Nation celebrates the beauty and majesty of the great outdoors. This occasion allows Americans to reflect on the role our parks, forests, wildlife refuges, recreation areas, and other public lands and waters play in our lives. We also acknowledge how this wonderful shared legacy would not be possible without our strong tradition of natural resource conservation.

No other country boasts more extraordinary or more diverse options for recreation. Our Nation's federally managed lands account for nearly one in every three acres and, together with our Nation's waters, provide visitors with almost 2 billion opportunities for recreation annually. Eight of ten Americans participate at least monthly in outdoor recreation, and we may choose to challenge ourselves through demanding activities like mountain climbing or river rafting. Enjoying the outdoors also can be as tranquil as birdwatching or viewing a golden sunset from a campsite. These experiences leave us with wonderful memories of time shared with family and friends, provide opportunities for improving our health, and expose us to the wonders of nature.

Recognizing that most Americans enjoy the outdoors by visiting Federal, State, or local sites, my budget proposes to fully fund the Land and Water Conservation Fund at $900 million for Fiscal Year 2002. Half of the Fund will go toward grants to support State and local conservation and outdoor recreation efforts. My National Parks Legacy Project pledges to secure $4.9 billion to help ensure that our national parks are properly maintained and enhanced. In addition, I have directed the Department of the Interior to prepare an annual report describing the condition of our parks and offering specific recommendations to improve them.

During Great Outdoors Week, we also honor Americans who volunteer their time to restore and safeguard these national treasures. These generous individuals collectively contribute millions of hours to clean shorelines and waterways, maintain trails and campsites, staff interpretive centers, and perform other important tasks. Their efforts help ensure the continued vitality of our precious natural areas and enhance the quality of life for all Americans.

NOW, THEREFORE, I, GEORGE W. BUSH, President of the United States of America, by virtue of the authority vested in me by the Constitution and laws of the United States, do hereby proclaim June 10-16, 2001, as Great Outdoors Week. I call upon the people of the United States to observe this week with appropriate ceremonies and activities and to participate in safe and wholesome outdoor recreation.

IN WITNESS WHEREOF, I have hereunto set my hand this eleventh day of June, in the year of our Lord two thousand one, and of the Independence of the United States of America the two hundred and twenty-fifth.

B

[FR Doc. 01-15117

Filed 6-12-01; 10:54 am]

Billing code 3195-01-P